DEPARTMENT OF COMMERCE

Foreign-Trade Zones Board

[B-6-2025]

Foreign-Trade Zone (FTZ) 7; Notification of Proposed Production Activity; Lilly del Caribe, Inc.; (Pharmaceutical Products); Carolina, Puerto Rico

Lilly del Caribe, Inc. submitted a notification of proposed production activity to the FTZ Board (the Board) for its facility in Carolina, Puerto Rico, within Subzone 7K. The notification conforming to the requirements of the Board's regulations (15 CFR 400.22) was received on January 30, 2025.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz. The proposed finished product and material(s)/component(s) would be added to the production authority that the Board previously approved for the operation, as reflected on the Board's website.

The proposed finished product is finished orforglipron dosage form (duty free).

The proposed foreign-status materials/components include orforglipron active ingredient and orforglipron SDD (spray dried dispersion) (duty rate is duty-free or 6.5%). Certain materials/components are subject to duties under Section 1702(a)(1)(B) of the International Emergency Economic Powers Act, depending on the country of origin. The applicable section 1702 decision requires subject merchandise to be admitted to FTZs in privileged foreign status (19 CFR 146.41).

Public comment is invited from interested parties. Submissions shall be addressed to the Board's Executive Secretary and sent to: ftz@trade.gov. The closing period for their receipt is March 24, 2025.

A copy of the notification will be available for public inspection in the “Online FTZ Information System” section of the Board's website.

For further information, contact Diane Finver at Diane.Finver@trade.gov.

Dated: February 6, 2025.
Elizabeth Whiteman,
Executive Secretary.

[FR Doc. 2025-02507 Filed 2-11-25; 8:45 am]

BILLING CODE 3510-DS-P